DEPARTMENT OF COMMERCE

National Oceanic and Atmospheric Administration

RIN 0648-XF349

Mid-Atlantic Fishery Management Council (MAFMC); Meeting

AGENCY: National Marine Fisheries Service (NMFS), National Oceanic and Atmospheric Administration (NOAA), Commerce.

ACTION: Notice of a public meeting.

SUMMARY: The Atlantic Mackerel, Squid, and Butterfish Advisory Panel of the Mid-Atlantic Fishery Management Council (Council) will hold a public meeting.

DATES: The meeting will be held on Monday, May 1, 2017, from 1 p.m. to 5 p.m., to view the agenda see SUPPLEMENTARY INFORMATION.

The meeting will be held via Webinar with a telephone-only audio connection: http://mafmc.adobeconnect.com/msb-ap-2017/. Telephone instructions are provided upon connecting, or the public can call direct, at 800-832-0736, Rm: 7833942#.

ADDRESSES:

Council address: Mid-Atlantic Fishery Management Council, 800 N. State Street, Suite 201, Dover, DE 19901: telephone: (302) 674-2331 or on their Web site, at www.mafmc.org.

FOR FURTHER INFORMATION CONTACT: Christopher M. Moore, Ph.D., Executive Director, Mid-Atlantic Fishery Management Council, telephone: (302) 526-5255.

SUPPLEMENTARY INFORMATION:

Agenda

The purpose of the meeting is to create a Fishery Performance Report by the Council's Atlantic Mackerel, Squid, and Butterfish (MSB) Advisory Panel. The intent of this report is to facilitate a venue for structured input from the Advisory Panel members for the MSB specifications process, including recommendations by the Council and its Scientific and Statistical Committee (SSC).

Special Accommodations

These meetings are physically accessible to people with disabilities. Requests for sign language interpretation or other auxiliary aids should be directed to M. Jan Saunders, at (302) 526-5251, at least 5 business days prior to the meeting.

Authority: 16 U.S.C. 1801 et seq.

Dated: April 7, 2017.
Tracey L. Thompson,
Acting Director, Office of Sustainable Fisheries, National Marine Fisheries Service.

[FR Doc. 2017-07344 Filed 4-11-17; 8:45 am]

BILLING CODE 3510-22-P